FEDERAL EMERGENCY MANAGEMENT AGENCY

44 CFR Part 67

[Docket No. FEMA-D-7514]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Administrator for Federal Insurance and Mitigation Administration certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. Elevation in feet (*NGVD) (•NAVD): Existing | #Depth in feet above ground. Elevation in feet (*NGVD) (•NAVD): Modified
Alabama | Baldwin County (Unincorporated Areas) | Fish River | Approximately 420 feet upstream of Threemile Creek | •105 | •104
|  |  | At the upstream side of U.S. Route 51 (State Highway 59) | None | •196
|  | Perone Branch | At confluence with Fish River | •35 | •34
|  |  | At State Highway 59 | None | •145
|  | Styx River | At confluence with Perdido River | •6 | •9
|  |  | At Brady Road (Truck Route 17) | None | •77
|  | Mobile Bay | Approximately 200 feet south of intersection of Fort Morgan Road and Dune Drive | None | •7
|  |  | Approximately 0.6 mile west of the intersection of Main Street and Bel Air Drive | •17 | •19
|  | Bon Secour Bay | Southeast corner of intersection of Veterans Road and State Route 180 | •10 | •9
|  |  | Approximately 300 feet west of the intersection of Bay Road North and Beach Road | •13 | •15
|  | Gulf of Mexico | At intersection of Ono Boulevard and Pompano Key Drive | None | •7
|  |  | Approximately 500 feet south of the intersection of Ponce de Leon Court and Choctow Road | •12 | •15
|  | Perdido Bay | Approximately 250 feet northwest of the intersection of Magnolia Street and Mobile Avenue | None | •4
|  |  | Approximately 1.1 miles east of the intersection of Boykin Boulevard and Azalea Street | •8 | •9
|  | Wolf Bay | Approximately 500 feet south of the intersection of State Route 95 and East Quarry Drive | None | •5
|  |  | Approximately 0.9 mile north of the intersection of Gulf Bay Road and Wolf Bay Terrace | •8 | •9
|  | Weeks Bay | Approximately 1,000 feet south of intersection of Yupon Lane and Gavin Lane | •10 | •11
|  |  | Approximately 500 feet west of intersection of Yupon Lane and Gavin Lane | •12 | •11
|  | Oyster Bay | Approximately 2,750 feet north of intersection of Old Fort Morgan Trail | None | •10
|  |  | Approximately 0.6 mile north of intersection of Quail Run and Oyster Bay Lane | •10 | •14
Maps available for inspection at the Baldwin County Building Department, 201 East Section Street, Bay Minette, Alabama.
Send comments to Mr. Joe Faust, Chairman of the Baldwin County Commission, P.O. Box 1488, Bay Minette, Alabama 36507.
Alabama | Elmore County (Unincorporated Areas) | Tributary to Mill Creek | At a point approximately 1,000 feet upstream of the confluence with Mill Creek | None | •204
|  |  | At a point approximately 2,500 feet upstream of the confluence with Mill Creek | None | •214
|  | Alabama River | Approximately 950 feet downstream of Interstate 31 | None | •161
|  |  | Approximately 3,700 feet downstream of the confluence of Tallapoosa River | None | •168
|  | Tallapoosa River | Approximately 3.3 miles River upstream of the confluence of Gravel Pit Creek | None | •169
|  |  | Approximately 4.6 miles downstream of the confluence of Chubbehatchee Creek | None | •176
Maps available for inspection at the Office of the Elmore County Engineer, 155 County Shop Road, Wetumpka, Alabama.
Send comments to Mr. Don Whorton, Chairman of the Board of Elmore County Commissioners, 100 Commerce Street, Room 207, Wetumpka, Alabama 36092.
Connecticut | Enfield (Town), Hartford County | Waterworks Brook | Approximately 140 feet downstream of breached dam | *55 | *54
|  |  | Approximately 500 feet upstream of Elm Avenue | *121 | *124
|  | Terry Brook | At the confluence with the Scantic River | None | *117
|  |  | Approximately 250 feet upstream of Somers Road | None | *204
Maps available for inspection at the Enfield Town Engineer's Office, 820 Enfield Street, Enfield, Connecticut.
Send comments to Mr. Scott Shanley, Enfield Town Manager, 820 Enfield Street, Enfield, Connecticut 06082-2997.
Connecticut | Marlborough (Town), Hartford County | Blackledge River | Approximately 2,620 feet upstream of West Road | *351 | *352
|  |  | Approximately 550 feet upstream of Jones Hollow Bridge | None | *384
|  | Fawn Brook | Approximately 210 feet upstream of South Main Street | *179 | *180
|  |  | Approximately 2,925 feet upstream of South Main Street | None | *193
|  | Unnamed Tributary of Dickinson Creek | At confluence with Dickinson Creek | None | *419
|  |  | A point approximately 660 feet upstream of State Route 2 | None | *423
Maps available for inspection at the Marlborough Town Planner's Office, Town Hall, 26 North Main Street, Marlborough, Connecticut.
Send comments to Mr. Howard Dean, Jr., Town of Marlborough First Selectman, Town Hall, 26 North Main Street, P.O. Box 29, Marlborough, Connecticut 06447.
Florida | Daytona Beach (City) Volusia County | Eleventh Street Canal | At confluence with Tomoka River | *15 | *16
|  |  | Approximately 2,810 feet upstream of Clyde Morris Boulevard North | None | *26
|  | Eleventh Street Canal Tributary No. 2 | At confluence with Eleventh Street | *27 | *26
|  |  | Approximately 2,800 feet 2 upstream of LPGA Boulevard | *28 | *26
|  |  | Just upstream of Clyde Morris Boulevard North | *28 | *26
|  |  | At confluence of Eleventh Street Canal Tributary No. 2A | *28 | *26
|  | Eleventh Street Canal Tributary No. 2A | At confluence with Eleventh Street Canal Tributary No. 2 | *28 | *26
|  |  | Approximately 2,600 feet upstream of confluence with Eleventh Street Canal Tributary No. 2 | *29 | *26
|  | Shooting Range Canal | At confluence with Tomoka River | *12 | *13
|  |  | At a point just upstream of Clyde Morris Boulevard North | *28 | *26
Maps available for inspection at the City of Daytona Beach Public Works Complex, Engineering Department, 950 Bellevue Avenue, Daytona Beach, Florida.
Send comments to Mr. Carey F. Smith, Daytona Beach City Manager, P.O. Box 2451, Daytona Beach, Florida 32115.
Florida | Ormond Beach (City), Volusia County | Eleventh Street Canal Tributary No. 2 | At confluence with Eleventh | *27 | *26
|  |  | Approximately 2,800 feet 2 upstream of LPGA Boulevard | *28 | *26
|  |  | Just upstream of Clyde Morris Boulevard North | *28 | *26
|  |  | At confluence of Eleventh Street Canal Tributary No. 2A | *28 | *26
|  | Eleventh Street Canal Tributary No. 2A | At confluence with Eleventh Street Canal Tributary No. 2 | *28 | *26
|  |  | Approximately 2,600 feet upstream of confluence with Eleventh Street Canal Tributary No. 2 | *29 | *26
Maps available for inspection at the City of Ormond Beach Planning Department, Room 104, 22 South Beach Street, Ormond Beach, Florida.
Send comments to Mr. Ted MacLeod, City of Ormond Beach Interim Manager, P.O. Box 277, Ormond Beach, Florida 32175-0277.
Florida | Volusia County (Unincorporated Areas) | Eleventh Street Canal Tributary No. 2 | At confluence with Eleventh Street | *27 | *26
|  |  | Approximately 2,800 feet upstream of LPGA Boulevard | *28 | *26
|  |  | Just upstream of Clyde Morris Boulevard North At confluence of Eleventh Street Canal Tributary No. 2A | *28 | *26
|  | Eleventh Street Canal Tributary No. 2A | At confluence with Eleventh Street Canal Tributary No. 2 | *28 | *26
|  |  | Approximately 2,600 feet upstream of confluence with Eleventh Street Canal Tributary No. 2 | *29 | *26
|  | Shooting Range Canal | At confluence with Tomoka River | *12 | *13
|  |  | At a point just upstream of Clyde Morris Boulevard North | *28 | *26
Maps available for inspection at the Volusia County Emergency Operations Center, 49 Keyton Drive, Daytona, Florida.
Send comments to Ms. Cynthia Coto, Volusia County Manager, 123 West Indiana Avenue, Deland, Florida 32720-4612.
Florida | Jupiter Island (Town), Martin County | Atlantic Ocean | Approximately 0.94 mile east of intersection of Suddard Drive and Williams Drive | *10 | *13
|  |  | Approximately 1.32 miles north-northwest of intersection of Beach Road and Harmony Avenue | *10 | *6
Maps available for inspection at the Jupiter Town Hall, Building Department, 103 Bunker Hill Road, Hobe Sound, Florida.
Send comments to Mr. James R. Spurgeon, Jupiter Island Town Manager, P.O. Box 7, Hobe Sound, Florida 33475-0007.
Florida | Martin County (Unincorporated Areas) | Bessey Creek | Approximately 1,100 feet downstream of Andrews Drive | *7 | *8
|  |  | At 84th Avenue | None | *26
|  | Danforth Creek | At Martin Downs Boulevard | *7 | *8
|  |  | Approxiamtely 1,600 feet upstream of State Route 76A | None | *23
|  | South Fork St. Lucie River | Approximately 2.1 miles upstream of State Route 76 | *7 | *8
|  |  | Approximately 4.9 miles upstream of State Route 76 | None | *10
|  | Roebuck Creek | Approximately 700 feet downstream of Buckskin Trail | *7 | *8
|  |  | Approximately 0.78 mile upstream of State Route 76A | None | *19
|  | Manatee Creek | At State Route A1A | *8 | *9
|  |  | Approximately 1,800 feet upstream of Twin Lakes Drive | None | *15
|  | East Fork Creek | Approxiamtely 400 feet upstream of Cove Road | *8 | *9
|  |  | Approximately 100 feet upstream of Mariner Sands Drive | None | *15
|  | Atlantic Ocean | Approximately 600 feet east of the intersection of A1A and 42nd Street | *9 | *14
|  |  | Approximately 1.1 miles northeast of intersection of Golfhouse Drive and Hill Terrace | *10 | *6
Maps available for inspection at the Martin County Engineer's Office, 2401 South East Monterey Road, Stuart, Florida.
Send comments to Mr. Russ Blackburn, Martin County Administrator, 2401 South East Monterey Road, Stuart, Florida 34996.
Georgia | White County (Unincorporated Areas) | Blue Creek | Approximately 300 feet upstream of the confluence with Chattahoochee River | None | *1,268
|  |  | Approximately 2.5 miles upstream of Duncan Bridge Road | None | *1,372
|  | Brasstown Creek | Approximately 800 feet upstream of the confluence with Chattahoochee River | None | *1,271
|  |  | Approximately 3.2 miles upstream of Roy Powers Road | None | *1,391
|  | Brasstown Creek Tributary No. 1 | At confluence with Brasstown Creek | None | *1,322
|  |  | Approximately 1.3 miles upstream of the confluence with Brasstown Creek | None | *1,386
|  | Brasstown Creek Tributary No. 2 | At the confluence with Brasstown Creek | None | *1,341
|  |  | Approximately 0.9 mile upstream of the confluence with Brasstown Creek | None | *1,394
|  | White Creek | Approximately 200 feet upstream of the confluence with Chattahoochee River | None | *1,133
|  |  | At State Route 254 | None | *1,317
|  | Chattahoochee | Approximately 1.7 miles downstream of State Route 75 | None | *1,390
|  |  | Approximately 1.5 miles downstream of State Route | None | *1,394
Maps available for inspection at the White County Planning Commission Director's Office, 59 South Main Street, Cleveland, Georgia.
Send comments to Mr. Paul Bryan, White County Manager, 59 South Main Street, Cleveland, Georgia 30528.
Illinois | Elburn (Village), Kane County | Blackberry Creek | At the confluence of Blackberry Creek Tributary D | None | *741
|  |  | Approximately 1,050 feet upstream of Hughes Road | None | *747
|  | Blackberry Creek Tributary D | Approximately 600 feet upstream of confluence with Blackberry Creek | None | *742
|  |  | Approximately 2,550 fee downstream of Keslinger Road | None | *799
Maps available for inspection at the Elburn Village Hall, 301 East North Street, Elburn, Illinois.
Send comments to Mr. James Willey, President of the Village of Elburn Board of Trustees, 301 East North Street, Elburn, Illinois 60119.
Illinois | Elgin (City), Kane County | Sandy Creek | At Randall Road | *821 | *826
|  |  | Approximately 325 feet upstream of Randall Road | None | *826
|  | Tyler Creek | Approximately 500 feet upstream of confluence with Fox River | *716 | *715
|  |  | Approximately 120 feet downstream of Soo Line Railroad | None | *839
Maps available for inspection at City of Elgin Public Works Department, Engineering Division, 150 Dexter Court, Elgin, Illinois.
Send comments to Ms. Joyce Parker, Elgin City Manager, 150 Dexter Court, Elgin, Illinois 60120.
Illinois | Gilberts (Village) Kane County | Tyler Creek | Just upstream of Big Timber Road | None | *867
|  |  | Approximately 200 feet downstream of McCornack Road | None | *886
Maps available for inspection at the Gilberts Village Hall, 86 Railroad Street, Gilberts, Illinois.
Send comments to Mr. Mike Isitoro, Gilberts Village President, 86 Railroad Street, Gilberts, Illinois 60136.
Illinois | Kane County (Unincorporated Areas) | Blackberry Creek Tributary F | Approximately 0.6 mile upstream of confluence with Blackberry Creek Tributary B | *704 | *703
|  |  | Approximately 250 feet downstream of Bliss Road | *728 | *727
|  | Main Street Ditch | At confluence with Blackberry Creek Tributary F | None | *707
|  |  | Approximately 150 feet upstream of Main Street | None | *709
|  | Tyler Creek | Approximately 375 downstream of Eagle Road East | *791 | *793
|  |  | Approximately 200 feet upstream of Illinois Route 72 | None | *898
|  | Pingree Creek | At confluence with Tyler Creek | None | *893
|  |  | Approximately 325 feet upstream of U.S. Route 20 | None | *906
|  | Mastadon Lake | Approximately 300 feet southeast of the intersection of Parker Avenue and Hinman Street | None | *662
|  | Sandy Creek | Approximately 130 feet downstream of Randall Road | *820 | *821
|  |  | Just downstream of U.S. Route 20 | None | *889
|  | Indian Creek | Approximately 0.41 mile upstream of Wood Street | None | *676
|  |  | At downstream side of East-West Tollway | None | *717
|  | Indian Creek Tributary B | Approximately 0.61 mile upstream of confluence with Indian Creek | None | *716
|  |  | Approximately 0.86 mile upstream of confluence with Indian Creek | None | *716
|  | South Tributary | At confluence with Indian Creek | None | *684
|  |  | Approximately 680 feet upstream of confluence with Indian Creek | None | *688
|  | Welch Creek | Approximately 1,110 feet downstream of Fay's Lane | None | *680
|  |  | Just upstream of Burlington Northern Railroad | None | *692
|  | Welch Creek Tributary 1 | Just upstream of Aurora Municipal Airport | None | *693
|  |  | Approximately 2,600 feet upstream of Aurora Municipal Airport | None | *694
|  | Blackberry Creek Tributary H | Approximately 750 feet southwest of Lake View Court and Lake View Drive intersection | None | *670
|  | Selmarten Creek | At confluence with Indian Creek | *715 | *716
|  |  | At county boundary | *718 | *720
Maps available for inspection at the Kane County Water Resources Department, Kane County Government Center Building “A,” 719 Batavia Avenue, Geneva, Illinois.
Send comments to Mr. Michael W. McCoy, Chairman of the Kane County Board of Commissioners, 719 Batavia Avenue, Geneva, Illinois 60134.
Illinois | Kendall County (Unincorporated Areas) | Harvey Creek | From county boundary | None | *638
|  |  | At approximately 775 feet upstream of confluence with Little Rock Creek | None | *617
Maps available for inspection at the Kendall County Planning and Zoning Department, 111 West Fox Street, Yorkville, Illinois.
Send comments to Mr. John Church, Chairman of the Kendall County Board, 111 West Fox Street, Yorkville, Illinois 60560.
Illinois | Lily Lake (Village), Kane County | Ferson Creek | Approximately 100 feet downstream of Great Western Trail Railroad | None | *802
|  |  | Just downstream of Route 64 | None | *872
Maps available for inspection at the Lily Lake Village Hall, 43W680 Empire Road, St. Charles, Illinois.
Send comments to Mr. Glenn Bork, Lily Lake Village President, 44W508 I.C. Trail, Lily Lake, Illinois 60151.
Illinois | Montgomery (Village), Kane County | Blackberry Creek Tributary G | Approximately 2,050 feet downstream of Aucutt Road | None | *661
|  |  | Approximately 550 feet downstream of Jericho Road | None | *666
|  | Blackberry Creek | Approximately 0.4 mile downstream of Jericho Road | None | *664
|  |  | At Jericho Road | None | *666
Maps available for inspection at the Montgomery Village Clerk's Office, 1300 South Broadway, Montgomery, Illinois.
Send comments to Ms. Marilyn Michelini, Montgomery Village President, 1300 South Broadway, Montgomery, Illinois 60538.
Illinois | Newark (Village), Kendall County | Dave-Bob Creek | Approximately 175 feet upstream of confluence with Clear Creek | None | *620
|  |  | Approximately 560 feet upstream of Chicago Road | None | *663
Maps available for inspection at the Village of Newark Building Department, 101 West Lions Street, Newark, Illinois.
Send comments to Mr. Roger Ness, Village President, P.O. Box 445, Newark, Illinois 60541-0001.
Illinois | Pingree Grove (Village), Kane County | Pingree Creek | Approximately 1,000 feet upstream of Highland Avenue | None | *901
|  |  | Approximately 800 feet upstream of Soo Line Railroad | None | *902
Maps available for inspection at the Pingree Grove Village Hall, 14N042 Reinking Road, Hampshire, Illinois.
Send comments to Mr. Vern Wester, President of the Village of Pingree Grove Board, 14N042 Reinking Road, Hampshire, Illinois 60140.
Illinois | Sandwich (City), DeKalb County | Harvey Creek | Approximately 775 feet upstream of Little Rock Creek | None | *617
|  |  | At Dayton Street | None | *640
Maps available for inspection at the City Engineering Office, 144 East Railroad Street, Sandwich, Illinois.
Send comments to Mr. Tom Thomas, Mayor of the City of Sandwich, 144 East Railroad Street, Sandwich, Illinois 60548.
Illinois | Sugar Grove (Village), Kane County | Blackberry Creek | Approximately 1,050 feet upstream of Densmore Road | None | *678
|  |  | Approximately 1,800 feet upstream of Bliss Road | None | *690
|  | Blackberry Creek | At confluence with Blackberry Creek | None | *680
|  | Tributary E | At Mankes Road | None | *680
Maps available for inspection at the Sugar Grove Village Office, 10 Municipal Drive, Sugar Grove, Illinois.
Send comments to Mr. P. Sean Michels, Sugar Grove Village President, 10 Municipal Drive, Sugar Grove, Illinois 60554.
Maine | Lebanon (Town), York County | Salmon Falls River | At downstream corporate limits | None | *190
|  |  | At upstream corporate limits | None | *421
Maps available for inspection at the Lebanon Code Enforcement Office, 655 Upper Guinea Road, Lebanon, Maine.
Send comments to Mr. Gilber Zinck, Chairman of the Town of Lebanon Selectmen, P.O. Box 339, Lebanon, Maine 04027.
Maine | Princeton (Town), Washington County | Grand Falls Flowage | Entire shoreline within the Town of Princeton | None | *204
|  | Lewy Lake | Entire shoreline within the Town of Princeton | None | *204
|  | Long Lake | Entire shoreline within the Town of Princeton | None | *204
Maps available for inspection at the Princeton Town Office, 15 Depot Street, Princeton, Maine.
Send comments to Mr. Greg Monk, Chairman of the Town of Princeton Board of Selectmen, P.O. Box 408, Princeton, Maine 04668.
New Hampshire | Nashua (City), Hillsborough County | Nashua River | At the downstream side of B&M Railroad bridge | *115 | *114
|  |  | Approximately 0.75 mile upstream of State Route 111 | *177 | *176
|  | Bartemus Brook | At confluence with Nashua River | *167 | *165
|  |  | At upstream corporate limits | *168 | *166
|  | Lyle Reed Brook | At confluence with Nashua River | *169 | *167
|  |  | Approximately 0.75 mile upstream of State Route 11 | *169 | *167
Maps available for inspection at the Nashua City Hall, 229 Main Street, Nashua, New Hampshire.
Send comments to The Honorable Bernard A. Streeter, Mayor of the City of Nashua, City Hall, 229 Main Street, Nashua, New Hampshire 03061-2019.
New Jersey | Deal (Borough), Monmouth County | Poplar Brook | Approximately 20 feet upstream of New York and Long Branch Railroad | *15 | *29
|  |  | Approximately 480 feet downstream of Ocean Avenue | *10 | *11
Maps available for inspection at the Deal Borough Municipal Building, Durant Square, Deal, New Jersey.
Send comments to Mr. James Rogers, Borough of Deal Clerk and Administrator, Municipal Building, Durant Square, Deal, New Jersey 07723.
New York | Angola (Village), Erie County | Big Sister Creek | Upstream corporate limits | None | *622
|  |  | Downstream corporate limits | None | *644
|  | Unnamed Tributary to Big Sister Creek | At confluence with Big Sister Creek | None | *643
|  |  | Approximately 750 feet upstream of confluence with Big Sister Creek | None | *643
Maps available for inspection at the Angola Village Office, 41 Commercial Street, Angola, New York.
Send comments to The Honorable Jim Carlson, Mayor of the Village of Angola, 41 Commercial Street, Angola, New York 14006.
New York | East Aurora (Village), Erie County | Tannery Brook | At the confluence of East Branch Cazenovia Creek | *867 | *866
|  |  | Approximately 710 feet upstream of Brooklea Drive | *943 | *944
Maps available for inspection at the East Aurora Village Hall, 571 Main Street, East Aurora, New York.
Send comments to The Honorable John V. Pagliaccio, Mayor of the Village of East Aurora, 571 Main Street, East Aurora, New York 14052.
New York | Fort Plain (Village), Montgomery County | Otsquago Creek | Approximately 540 feet upstream of the confluence with the Mohawk River | *305 | *306
|  |  | Approximately 50 feet upstream of State Route 80 | *335 | *336
Maps available for inspection at the Fort Plain Village Hall, 168 Canal Street, Fort Plain, New York.
Send comments to The Honorable Thomas L. Quackenbush, Mayor of the Village of Fort Plain, Fort Plain Village Hall, 168 Canal Street, Fort Plain, New York 13339.
New York | Herkimer (Village), Herkimer County | West Canada Creek | Approximately 600 feet downstream of East State Street (State Route 5) | *388 | *387
|  |  | At the upstream corporate limits with the Town of Herkimer (approximately 1.36 miles upstream of East State Street) | *414 | *413
Maps available for inspection at the Herkimer Village Municipal Hall, 120 Green Street, Herkimer, New York.
Send comments to Mr. Jams Franco, Herkimer County Department of Public Works, South Washington Street, Herkimer, New York 13350.
New York | Jay (Town), Essex County | East Branch Ausable River | At the confluence with Ausable River | *551 | *550
|  |  | At the upstream corporate limits (approximately 2.24 miles upstream of NYS Route 9N) | None | *724
|  | Ausable River | At the downstream corporate limits | None | *491
|  |  | At the confluence of East and West Branches of Ausable River | *551 | *550
|  | Tributary to East Branch Ausable River | At the confluence with East Branch Ausable River | None | *589
|  |  | At NYS Route 9R | None | *765
|  | West Branch | At the confluence with the Ausable | *551 | *550
|  | Ausable River | River and East Branch Ausable River Approximately 250 feet upstream of the confluence with the Ausable River | *553 | *552
Maps available for inspection at the Jay Town Hall, School Street, Ausable Forks, New York.
Send comments to Mr. Thomas O'Neill, Jay Town Supervisor, P.O. Box 730, Ausable Forks, New York 12912.
New York | Lisle (Town), Broome County | Dudley Creek | Approximately 650 feet downstream of Owen Hill Road | None | *1,044
|  |  | At Popple Hill Road | None | *1,097
|  | Culver Creek | At the confluence with Dudley Creek | None | *1,075
|  |  | At Hunts Corners Road | None | *1,106
|  | Tioughnioga River | Approximately 3.12 miles downstream of Main Street | None | *979
|  |  | A point approximately 1.19 miles upstream of Main Street | None | *1,003
Maps available for inspection at the Lisle Town Office, 9234 NYS Route 79, Lisle, New York.
Send comments to Mr. James C. Dunham, Lisle Town Supervisor, P.O. Box 98, Lisle, New York 13797.
New York | Tusten (Town), Sullivan County | Delaware River | At the corporate limits | None | *629
|  |  | Approximately 2.03 miles downstream of the CONRAIL bridge | None | *665
Maps available for inspection at the Tusten Town Hall, 210 Bridge Street, Narrowsburg, New York.
Send comments to Mr. Richard Crandell, Tusten Town Supervisor, P.O. Box 195, Narrowsburg, New York 12764.
Virginia | Franklin (City), Independent City | Blackwater River | At downstream corporate limits | None | *17
|  |  | At upstream corporate limits | *18 | *22
Maps available for inspection at Franklin City Office, 207 West Second Avenue, Franklin, Virginia.
Send comments to The Honorable James P. Councill, III, Mayor of the City of Franklin, 207 West Second Avenue, Franklin, Virginia 23851.
Virginia | Isle of Wight County (Unincorporated Areas) | Blackwater River | Approximately 3.7 miles downstream of CSX Transportation | None | *16
|  |  | Approximately 1.3 miles upstream of Broadwater Road (State Route 629) | *33 | *36
Maps available for inspection at the Isle of Wight County Administrator's Office, 17130 Monument Circle, Suite A, Isle of Wight, Virginia.
Send comments to Mr. W. Douglas Caskey, Isle of Wight County Administrator, P.O. Box 80, Isle of Wight, Virginia 23397.
Virginia | Monterey (Town) Highland County | West Strait | Approximately 650 feet downstream of U.S. Route 220 | *2,849 | *2,853
|  |  | Approximately 630 feet upstream of the west stream crossing of Mill Alley | *2,965 | *2,967
Maps available for inspection at the Monterey Building and Zoning Department, Main Street, Monterey, Virginia.
Send comments to The Honorable Janice Warner, Mayor of the Town of Monterey, P.O. Box 26, Monterey, Virginia 24465.
Virginia | Suffolk (City), Independent City | Blackwater | At downstream corporate limits | None | *15
|  |  | At upstream corporate limits | None | *16
Maps available for inspection at the Suffolk City Manager's Office, 441 Market Street, Suffolk, Virginia.
Send comments to The Honorable Curtis R. Milteer, Sr., Mayor of the City of Suffolk, P.O. Box 1858, Suffolk, Virginia 23439.
Vermont | Hardwick (Town/Village), Caledonia County | Lamoille River Divergence | Approximately 460 feet upstream of the confluence with Lamoille River | *793 | *794
|  |  | At the divergence from Lamoille River | *805 | *804
Maps available for inspection at the Hardwick Town Hall, 20 Church Street, Hardwick, Vermont.
Send comments to Mr. Daniel P. Hill, Hardwick Town/Village Manager, P.O. Box 523, 20 Church Street, Hardwick, Vermont 05843.
West Virginia | Berkeley County (Unincorporated Areas) | Evans Run | A point approximately 300 feet downstream of U.S. Route 11 | *489 | *488
|  |  | A point approximately 300 feet downstream of State Route 45 | *558 | *556
Maps available for inspection at the Berkeley County Planning Commission, 119 West King Street, Martinsburg, West Virginia.
Send comments to Mr. Howard Strauss, President of the Berkeley County Board of Commissioners, 126 West King Street, Martinsburg, West Virginia 25401.

(Catalog of Federal Domestic Assistance No. 83.100, “Flood Insurance”).
Dated: October 9, 2001.
Robert F. Shea,
Acting Administrator, Federal Insurance and Mitigation Administration.

[FR Doc. 01-26427 Filed 10-18-01; 8:45 am]

BILLING CODE 6718-04-P